DEPARTMENT OF HEALTH AND HUMAN SERVICES

Centers for Disease Control and Prevention

Disease, Disability, and Injury Prevention and Control Special Emphasis Panel (SEP): Initial Review

The meeting announced below concerns Occupational Safety and Health Training Project Grants, PAR10-288, initial review.

In accordance with Section 10(a)(2) of the Federal Advisory Committee Act (Pub. L. 92-463), the Centers for Disease Control and Prevention (CDC) announces the aforementioned meeting:

Times and Dates:

6:00 p.m.-8:00 p.m., January 13, 2015 (Closed)

8:00 a.m.-8:00 p.m., January 14, 2015 (Closed)

Place: Atlanta Airport Marriott, 4711 Best Road, Atlanta, Georgia 30337, Telephone: (404) 766-7900

Status: The meeting will be closed to the public in accordance with provisions set forth in Section 552b(c) (4) and (6), Title 5 U.S.C., and the Determination of the Director, Management Analysis and Services Office, CDC, pursuant to Public Law 92-463.

Matters for Discussion: The meeting will include the initial review, discussion, and evaluation of applications received in response to “Occupational Safety and Health Training Project Grants, PAR10-288, initial review.”

Contact Person for More Information: Donald Blackman, Ph.D., Scientific Review Officer, CDC, 2400 Century Center Parkway, NE., 4th Floor, Room 4204, Mailstop E-74, Atlanta, Georgia 30345, Telephone: (404) 498-6185, DYB7@CDC.GOV.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-29488 Filed 12-16-14; 8:45 am]

BILLING CODE 4163-18-P